DEPARTMENT OF COMMERCE

International Trade Administration

Ports and Marine Technology Trade Mission to India

February 2-6, 2015.

AGENCY: International Trade Administration, Department of Commerce.

ACTION: Notice; Recruitment Suspension.

SUMMARY: The United States Department of Commerce, International Trade Administration, Industry and Analysis is amending a notice for the Ports and Marine Technology Trade Mission to India scheduled for February 2-6, 2015, published November 19, 2014, to notify potential applicants that recruitment has been suspended until further notice.

Additional Information: On November 19, 2014, the International Trade Administration published a notice in the Federal Register (79 FR 68862) announcing an Executive-led ports and marine technology trade mission to India to be held February 2-6, 2014. The notice provided delegates that the trade mission application deadline is extended to November 21, 2014 and to add a second optional stop to an Easter port, Visakhapatnam, India. This notice suspends recruitment for the mission until further notice.

FOR FURTHER INFORMATION CONTACT: Frank Spector, Office of Industry and Analysis, Trade Promotion Programs, Phone: 202-482-2054; Fax: 202-482-9000, Email: Frank.Spector@trade.gov.

Frank Spector,
Senior International Trade Specialist.

[FR Doc. 2015-02235 Filed 2-4-15; 8:45 am]

BILLING CODE 3510-DR-P